EXPORT-IMPORT BANK

[Public Notice: EIB-2023-0011]

Application for Final Commitment for a Long-Term Loan or Financial Guarantee in Excess of $100 Million: AP755224XX

AGENCY: Export-Import Bank of the United States.

ACTION: Notice.

SUMMARY: This Notice is to inform the public the Export-Import Bank of the United States (“EXIM”) has received an application for final commitment for a long-term loan or financial guarantee in excess of $100 million. Comments received within the comment period specified below will be presented to the EXIM Board of Directors prior to final action on this Transaction.

DATES: Comments must be received on or before September 18, 2023 to be assured of consideration before final consideration of the transaction by the Board of Directors of EXIM.

ADDRESSES: Comments may be submitted through Regulations.gov at WWW.REGULATIONS.GOV. To submit a comment, enter EIB-2023-0011 under the heading “Enter Keyword or ID” and select Search. Follow the instructions provided at the Submit a Comment screen. Please include your name, company name (if any) and EIB-2023-0011 on any attached document.

SUPPLEMENTARY INFORMATION:

Reference: AP755224XX.

Purpose and Use:

Brief description of the purpose of the transaction: The construction of bridges and associated infrastructure at 186 sites, distributed throughout eighteen provinces in Angola.

Brief non-proprietary description of the anticipated use of the items being exported: This project will repair and modernize water crossings to improve the quality of life, increase productivity, and facilitate economic development in Angola. Due to this project, many Angolans will no longer have to rely on dangerous crossings, ropes, or boats to ferry goods and people across waterways.

Parties:

Principal Supplier: Acrow Corporation of America.

Obligor: Ministry of Finance of the Republic of Angola.

Guarantor(s): None.

Description of Items Being Exported: 186 modular steel panel bridges and ancillary bridging equipment, as well as technical training and advisory services.

Information on Decision: Information on the final decision for this transaction will be available in the “Summary Minutes of Meetings of Board of Directors” on http://exim.gov/newsandevents/boardmeetings/board/.

Confidential Information: Please note that this notice does not include confidential or proprietary business information; information which, if disclosed, would violate the Trade Secrets Act; or information which would jeopardize jobs in the United States by supplying information that competitors could use to compete with companies in the United States.

Authority: Section 3(c)(10) of the Export-Import Bank Act of 1945, as amended (12 U.S.C. 635a(c)(10)).

Joyce B. Stone,
Assistant Corporate Secretary.

[FR Doc. 2023-18249 Filed 8-23-23; 8:45 am]

BILLING CODE 6690-01-P